DEPARTMENT OF TRANSPORTATION

Federal Aviation Administration

[Docket No. FAA-2023-1169]

Agency Information Collection Activities: Requests for Comments; Clearance of a New Approval of Information Collection: Inflation Reduction Act Fueling Aviation's Sustainable Transition Grant Program

AGENCY: Federal Aviation Administration (FAA), DOT.

ACTION: Notice and request for comments.

SUMMARY: In accordance with the Paperwork Reduction Act of 1995, FAA invites public comments about our intention to request the Office of Management and Budget (OMB) approval for a new information collection. The Federal Register Notice with a 60-day comment period soliciting comments on the following collection of information was published on May 24, 2023. The collection involves soliciting project proposals for the Inflation Reduction Act (IRA) Fueling Aviation's Sustainable Transition (FAST) Grant Program. The information to be collected will be used to determine projects to be awarded FAST competitive discretionary grants.

DATES: Written comments should be submitted by September 6, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Chris Dorbian by email at: christopher.dorbian@faa.gov; phone: 202-267-8156.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-XXXX.

Title: Inflation Reduction Act Fueling Aviation's Sustainable Transition Grant Program.

Form Numbers: OMB Number 4040-0004, 4040-0006, 4040-0007, 4040-0008, 4040-0009, 4040-0010.

Type of Review: New information collection.

Background: The Federal Register Notice with a 60-day comment period soliciting comments on the following collection of information was published on May 24, 2023 (88 FR 33659). The FAA is using this collection to solicit the information necessary to evaluate and select sustainable aviation fuel and low-emission aviation technology projects for funding under the Inflation Reduction Act (IRA), signed on August 16, 2022. Section 40007 of the Inflation Reduction Act of 2022 directs the Secretary of Transportation to implement a “competitive grant program for eligible entities to carry out projects located in the United States that produce, transport, blend, or store sustainable aviation fuel, or develop, demonstrate, or apply low-emission aviation technologies.” The Department of Transportation (DOT), Federal Aviation Administration (FAA) is seeking to establish this new grant program—named the Fueling Aviation's Sustainable Transition (FAST) Grant Program—and collect project proposals via a Notice of Funding Opportunity (NOFO). FAST will have elements focused on sustainable aviation fuel (SAF), to be termed FAST-SAF, and elements focused on low-emission aviation technologies, to be termed FAST-Tech. The program aims to reduce the greenhouse gas emissions (GHG) associated with the aviation sector, in line with the net-zero GHG by 2050 goal outlined in the U.S. Aviation Climate Action Plan. The amount of available funding for the two programs is $244.53M and $46.53M for FAST-SAF and FAST-Tech, respectively.

The NOFO will solicit project proposals from eligible entities. The collected information is required for FAA to evaluate proposals and distribute IRA funds to address U.S. climate goals. Eligible entities who elect to compete for funding and obtain benefits from the FAST Grant Program will submit project information. The information collected is based on grant criteria outlined in the IRA Section 40007.

The FAA will use information submitted to evaluate and select projects for funding that most closely align with the criteria outlined in the NOFO. A team of subject matter experts in aircraft technology development and sustainable aviation fuels from the FAA and other government agencies will assess each application against the applicable criteria. The information FAA is collecting will include technical, project management, and cost proposals for candidate projects. Key evaluation criteria include the capacity for the project to increase the domestic production and deployment of SAF or the use of low-emission aviation technologies and the projected greenhouse gas emissions from such a project.

Project information will be solicited through a NOFO published to grants.gov. Applications will be collected via grants.gov. The NOFO will outline in detail the form of the full application.

Respondents: Eligible entities as outlined in IRA Section 40007.

Frequency: One-time application per phase of funding.

Estimated Average Burden per Response: Approximately 500 hours.

Estimated Total Annual Burden: Approximately 25,000 hours (assuming 50 applicants).

Issued in Washington, DC, on August 2, 2023.
Julie Marks,
Executive Director (Acting), Federal Aviation Administration—Office of Environment and Energy.

[FR Doc. 2023-16805 Filed 8-4-23; 8:45 am]

BILLING CODE 4910-13-P